DEPARTMENT OF ENERGY

Federal Energy Regulatory Commission

[Project No. 1962-113]

Pacific Gas and Electric Company; Notice Dismissing Complaint

July 25, 2005.

1. On May 31, 2005, the Anglers Committee (Anglers) filed a complaint against Pacific Gas and Electric Company (PG&E), licensee for the Rock Creek-Cresta Project No. 1962, located on the North Fork Feather River in Butte and Plumas Counties, California.¹ On June 21, 2005, PG&E filed an answer to the complaint. On July 13, 2005, Anglers filed a rebuttal to PG&E's answer.

¹ The Commission issued PG&E a new license for the Rock Creek-Cresta Project and approved a settlement agreement resolving various project-related issues on October 24, 2001. 97 FERC ¶ 61,084 (2001).

2. The Anglers contend that the Ecological Resource Committee (Committee), created by the licensee,² will not allow the public to participate in the meetings (other than to attend and listen) and to have access to Committee documents. The Anglers request that the Commission require PG&E to establish requirements and proceedings for Committee meetings to provide public participation in all matters and access to Committee documents.

² Appendix Condition No. 22 of the license required PG&E to establish the Committee in coordination with the parties to the Settlement Agreement for the purpose of assisting the licensee in the design of monitoring plans, review and evaluation of data, and preparation of adaptive management measures for implementation by the licensee as provided in the Settlement Agreement.

The Anglers previously participated in settlement discussions regarding the relicensing of the project but, as stated in their complaint, they chose not to become signatories to the Settlement Agreement because of their disagreement with certain terms and conditions in the agreement. Members of the Committee are limited to the Settlement Agreement signatories.

3. The Commission's regulations provide that a complaint may be filed seeking Commission action against any person alleged to be “in contravention or violation of any statute, rule, order, or other law administered by the Commission or for any other alleged wrong over which the Commission may have jurisdiction.” ³ The regulations further provide that the complaint must [c]learly identify the action or inaction which is alleged to violate applicable statutory standards or regulatory requirements.” ⁴

³ See 18 CFR 385.206(a)(2005).

⁴ Id.

4. The license does not establish Committee procedures. Nor does it require public participation in Committee matters.⁵ Since the complainants do not allege that PG&E is in violation of its license, the Federal Power Act, or the Commission's regulations, the complaint is dismissed.

⁵ However, any material changes in project operations during the term of the license will require a license amendment application, public notice, and a proceeding in which interested entities will have an opportunity to participate.

Magalie R. Salas,
Secretary.

[FR Doc. E5-4165 Filed 8-2-05; 8:45 am]

BILLING CODE 6717-01-P